DEPARTMENT OF THE INTERIOR

National Park Service

National Park System Advisory Board; Meeting

AGENCY: National Park Service, Interior.

ACTION: Notice of meeting.

Notice is hereby given in accordance with the Federal Advisory Committee Act, 5 U.S.C. Appendix (1994), that the National Park System Advisory Board will meet April 14-16, 2000. The Board will convene for a 1½ hour session on April 14, and reconvene on April 16 for a full-day session in the Ballroom of The Golden Gate Club, 135 Fisher Loop, The Presidio of San Francisco, San Francisco, California. The Board will tour The Presidio of San Francisco and the Golden Gate National Recreation Area on the afternoon of April 14, and will tour Point Reyes National Seashore on April 15.

On April 14, the Board will convene from 8:30 a.m. until 10:00 a.m. The Board will reconvene on April 16, at 8:30 a.m., and adjourn at approximately 5:30 p.m. National Park Service Director Robert Stanton will address the Board. The Board will consider organization and procedural matters relative to undertaking a study of the future of the National Park Service and the National Park System. National Historic Landmark nominations will be reviewed by the Board during the afternoon session on April 16.

The Board may be addressed at various times by other officials of the National Park Service and the Department of the Interior; and other miscellaneous topics and reports may be covered. The order of the agenda may be changed, if necessary, to accommodate travel schedules or for other reasons.

The Board meeting will be open to the public. Space and facilities to accommodate the public are limited and attendees will be accommodated on a first-come basis. Anyone may file with the Board a written statement concerning matters to be discussed. The Board may also permit attendees to address the Board, but may restrict the length of the presentations, as necessary to allow the Board to complete its agenda within the allotted time.

Anyone who wishes further information concerning the meeting, or who wishes to submit a written statement, may contact Mr. Loran Fraser, Office of Policy, National Park Service, 1849 C Street, NW, Washington, DC 20240 (telephone 202-208-7456).

Draft minutes of the meeting will be available for public inspection about 12 weeks after the meeting, in room 2414, Main Interior Building, 1849 C Street, NW, Washington, DC.

Dated: March 28, 2000.
Robert Stanton,
Director, National Park Service.

[FR Doc. 00-8163 Filed 3-31-00; 8:45 am]

BILLING CODE 4310-70-P